COMMITTEE FOR PURCHASE FROM PEOPLE WHO ARE BLIND OR SEVERELY DISABLED

Information Collection Submitted to the Office of Management and Budget (OMB) for Approval Under the Paperwork Reduction Act; Nonprofit Agency Recordkeeping Requirements

AGENCY: Committee for Purchase From People Who Are Blind or Severely Disabled.

ACTION: Notice; request for comments.

SUMMARY: The Committee for Purchase From People Who Are Blind or Severely Disabled (The Committee) is submitting the collection of information listed below to OMB for approval under the provisions of the Paperwork Reduction Act. This notice solicits comments on that collection of information.

DATES: The Office of Management and Budget (OMB) has up to 60 days to approve or disapprove information collection but may respond after 30 days. Therefore, to ensure maximum consideration, your comments should be received by OMB by April 20, 2008.

ADDRESSES: Written comments should be addressed to the Office of Information and Regulatory Affairs, Attention: Desk Officer for the Committee for Purchase from People Who Are Blind or Severely Disabled, Office of Management and Budget, 725 17th Street, NW., Room 10222, Washington, DC 20503. Commenters are encouraged to submit responses electronically by e-mail to: oira_submission@omb.eop.gov or via fax to (202) 395-6974. Commenters should include the following subject line in their response: “Comment: 3037-0005 Nonprofit Agency Responsibilities.” Persons submitting comments electronically should not submit paper copies.

FOR FURTHER INFORMATION CONTACT: Janet Yandik, Information Management Specialist, Committee for Purchase From People Who Are Blind or Severely Disabled, 1421 Jefferson Davis Highway, Jefferson Plaza 2, Suite 10800, Arlington, VA 22202-3259; phone (703) 603-2147; fax (703) 603-0655; or e-mail rulescomment@abilityone.gov.

SUPPLEMENTARY INFORMATION: The Office of Management and Budget (OMB) regulations at 5 CFR part 1320, which implement provisions of the Paperwork Reduction Act of 1995 (44 U.S.C. 3501 et seq.), require that interested members of the public and affected agencies have an opportunity to comment on information collection and recordkeeping activities (see 5 CFR 1320.8(d)). The Committee is submitting a request to OMB to renew its approval of the collection of information for nonprofit agency responsibilities related to recordkeeping. The Committee is requesting a 3-year term of approval for this information collection activity.

Federal agencies may not conduct or sponsor, and a person is not required to respond to, a collection of information unless it displays a currently valid OMB control number. The OMB control number for this collection of information is 3037-0005.

The Javits-Wagner-O'Day (JWOD) Act of 1971 (41 U.S.C. 46-48c) is the authorizing legislation for the AbilityOne Program. (The name of the JWOD Program was changed to the AbilityOne Program on November 28, 2006, Federal Register Volume 71, Number 227, Page 68492-68494). The AbilityOne Program creates jobs and training opportunities for people who are blind or who have other severe disabilities. Its primary means of doing so is by requiring Government agencies to purchase selected products and services from nonprofit agencies employing such individuals. The JWOD Act, through the AbilityOne Program, is administered by the Committee. Two national, independent organizations, National Industries for the Blind (NIB) and NISH, help State and private nonprofit agencies participate in the AbilityOne Program. The implementing regulations for the JWOD Act, which are located at 41 CFR Chapter 51, detail the recordkeeping requirements imposed on nonprofit agencies participating in the AbilityOne Program. Section 51-2.4 of the regulations describes the criteria that the Committee must consider when adding a product or service to its Procurement List. One of these criteria is that a proposed addition must demonstrate a potential to generate employment for people who are blind or severely disabled. The Committee decided that evidence that employment will be generated for those individuals consists of recordkeeping that tracks direct labor and revenues for products or services sold through an AbilityOne Program contract. This recordkeeping can be done on each individual AbilityOne project or by product or service family. In addition, Section 51-4.3 of the regulations requires that nonprofit agencies keep records on direct labor hours performed by each worker and keep an individual record or file for each blind or severely disabled individual documenting that individual's disability and capabilities for competitive employment. The records that nonprofit agencies must keep in accordance with Section 51-4.3 of the regulations constitute the bulk of the hour burden associated with this OMB control number.

On December 21, 2007, the Committee published in the Federal Register (Volume 72, Number 245, Pages 72665-72666) a notice requesting public comment on these recordkeeping requirements for 60 days, ending February 19, 2008. By that date, the Committee received comments from 44 respondents with a total of 75 comments.

Seven comments were received opposing the request by indicating that this is a new recordkeeping requirement. There is nothing new in the Committee's request. The Committee did make a change in its recordkeeping requirements in 2002 to add recordkeeping of the direct labor hours and sales for AbilityOne projects on at least a product or service family basis. This change was approved by OMB and was renewed in 2005. There is no change to the recordkeeping requirements that the Committee is requesting OMB to approve again.

Eight comments were received questioning the necessity of the recordkeeping requirement and if it has any practical utility. The JWOD Act requires that 75% of the direct labor of all work done at a participating nonprofit agency be done by people who are blind or severely disabled. A number of these comments also stated that this requirement does nothing to increase jobs for people with disabilities. This recordkeeping requirement is to ensure that those nonprofit agencies participating in the AbilityOne Program employ people who meet the Act's definitions. This requirement does not involve any reporting requirements by nonprofits, only that the nonprofits keep records that can be used to document their compliance with the requirements of the Act. The requirement to keep records on the direct labor hours of AbilityOne projects is to ensure that the projects are suitable to remain on the Committee's Procurement List. Without this recordkeeping requirement, the Committee would have no way of verifying that those nonprofits that participate in the AbilityOne Program were meeting the requirements of the JWOD Act.

Thirty-eight of the comments referred to the accuracy of the Committee's burden estimate. The comments included estimates of the actual burden for the recordkeeping requirement that ranged from 25 minutes per person who is blind or severely disabled to 35.6 hours per person who is blind or severely disabled.

The Committee has used a burden estimate of 5 hours per agency since 2002 and before that, 3 hours per agency since at least 1992, and has not received any prior comments as to its accuracy. However, after review, the Committee agrees that 5 hours per agency is incorrect and that the burden is much higher. The range of burden estimates is a result of the many differences between individual nonprofit agencies and a misunderstanding of the recordkeeping requirement being considered. Many of the burden estimates identified in the comments included tasks that are required to meet other requirements, such as those of the Department of Labor, or would be performed by the nonprofit agency even if they were not in the AbilityOne Program.

Based on an analysis of the information contained in the comments and discussions with several other nonprofit agencies during the comment period, the Committee believes that a reasonable burden estimate is 2.5 hours per person that is blind or severely disabled. Currently, there are over 600 nonprofit agencies participating in the AbilityOne Program with employee numbers ranging from less than 10 to more than 2,000. The average number of people who are blind or severely disabled at participating nonprofit agencies was 218 in fiscal year 2007; therefore, the current recordkeeping burden will be estimated at 550 hours annually per nonprofit agency. The Committee recognizes that the burden will be higher for some nonprofit agencies based on their size, types of disabilities served, and whether or not they provide rehabilitation functions. However, based on the information submitted, the Committee believes that, on average, 550 hours per nonprofit agency is a reasonable burden estimate of those tasks imposed directly by this recordkeeping requirement.

Sixteen comments were received with suggestions on minimizing the burden. These included making changes to the JWOD Act, adhering to the Act as promulgated and intended by Congress, abolishing the Committee, deleting requirements from the Committee regulations, not requiring annual evaluations on some disabilities, and that the Committee include the cost of meeting the recordkeeping requirements in the price of products and services on the Procurement List. The Committee has reviewed its regulations and believes that its current regulations are in keeping with its administration of the JWOD Act, and those recommendations that would require a change to the Act itself are, therefore, beyond the scope of the Committee's information collection authority. One commenter questioned the necessity for requiring annual evaluations of all people with severe disabilities. This issue had previously been addressed by the Committee and determined that the requirement exists.

Five comments were received that do not fit within the four areas about which the Committee requested comments. One commenter requested that the Committee's request be denied; one discussed the difficulties involved with meeting the requirements of different Federal and State requirements; one requested that the Committee seriously consider the comments from all nonprofit agencies; one commented that this request was perpetuating the inefficiencies which hamper the AbilityOne Program; and one comment was that the Committee had made substantive and material modifications to collection requirements after approval by OMB. The Committee believes that this recordkeeping requirement is critical for the Committee to determine if nonprofit agencies are in compliance with the JWOD Act. There has been no substantive or material modification to collection requirements since 2002, and those made in 2002 were approved by OMB in 2002 and renewed in 2005. The Committee's responsibility to administer the Act requires that certain information be available to them to ensure that the purposes of the Act are met. Reasonable requirements by participating nonprofit agencies will permit the Committee to gather data required to report the results to the President and to Congress.

Dated: March 18, 2008.
Kimberly M. Zeich,
Director, Program Operations.

[FR Doc. E8-5768 Filed 3-20-08; 8:45 am]

BILLING CODE 6353-01-P